GENERAL SERVICES ADMINISTRATION

Privacy Act of 1974; Notice of Updated Systems of Records

AGENCY: General Services Administration.

ACTION: Notice.

SUMMARY: GSA reviewed its Privacy Act systems to ensure that they are relevant, necessary, accurate, up-to-date, covered by the appropriate legal or regulatory authority, and in response to OMB M-07-16. This notice is a compilation of updated Privacy Act system of record notices.

DATES: Effective May 27, 2008.

FOR FURTHER INFORMATION CONTACT: Call or e-mail the GSA Privacy Act Officer: telephone 202-208-1317; e-mail gsa.privacyact@gsa.gov.

ADDRESSES: GSA Privacy Act Officer (CIB), General Services Administration, 1800 F Street, NW., Washington, DC 20405.

SUPPLEMENTARY INFORMATION: GSA undertook and completed an agency wide review of its Privacy Act systems of records. As a result of the review GSA is publishing updated Privacy Act systems of records notices. Rather than make numerous piecemeal revisions, GSA is republishing updated notices for one of its systems. Nothing in the revised system notices indicates a change in authorities or practices regarding the collection and maintenance of information. Nor do the changes impact individuals' rights to access or amend their records in the systems of records. The updated system notices also include the new requirement from OMB Memorandum M-07-16 regarding a new routine use that allows agencies to disclose information in connection with a response and remedial efforts in the event of a data breach.

Dated: April 16, 2008.
Cheryl M. Paige,
Director, Office of Information Management.

GSA/OAP-3

SYSTEM NAME:

Federal Procurement Data System—Next Generation (FPDS-NG).

SYSTEM LOCATION:

Electronic records are maintained by the FPDS-NG contractor in a secure computer facility. Contact the system manager for additional information.

SYSTEM LOCATION:

FPDS-NG includes information on individuals who are sole proprietors who have or had contracts with the Federal Government.

CATEGORIES OF RECORDS IN THE SYSTEM:

The system collects, processes, and maintains official statistical data on Federal contracting, including:

a. Information on individual federal contractors that may include name, DUNS (Data Universal Numbering System) number, and Social Security Number as the Taxpayer Identification Number (TIN).

b. Contracts that are unclassified but may be considered sensitive due to insight they may provide into federal government activities in conjunction with data from other federal contracts.

AUTHORITIES FOR MAINTENANCE OF THE SYSTEM:

Public Law 93-400 Office of Federal Procurement Policy Act, as amended; 41 U.S.C. 405, 417.

PURPOSE:

To establish and maintain a system for assembling, organizing, and presenting contract procurement data for the federal government and the public sector.

ROUTINE USES OF THE SYSTEM RECORDS, INCLUDING CATEGORIES OF USERS AND THEIR PURPOSES FOR USING THE SYSTEM:

Information in this system may be disclosed as a routine use:

a. In any legal proceeding, where pertinent, to which GSA is a party before a court or administrative body.

b. To a Federal, State, local, or foreign agency responsible for investigating, prosecuting, enforcing, or carrying out a statute, rule, regulation, or order when GSA becomes aware of a violation or potential violation of civil or criminal law or regulation.

c. To an authorized appeal or grievance examiner, formal complaints examiner, equal employment opportunity investigator, arbitrator, or other duly authorized official engaged in investigation or settlement of a grievance, complaint, or appeal filed by an individual to whom the information pertains.

d. To the Office of Management and Budget (OMB) and the Government Accountability Office (GAO) in accordance with their responsibilities for evaluating Federal programs.

e. To a Member of Congress or his or her staff on behalf of and at the request of the individual who is the subject of the record.

f. To authorized officials of the agency that provided the information for inclusion in the system.

g. To an expert, consultant, or contractor in the performance of a Federal duty to which the information is relevant.

h. To provide recurring or special reports to the President, Congress, the Government Accountability Office, Federal Executive agencies, and the general public.

i. As a means of measuring and assessing the impact of Federal contracting on the nation's economy and the extent to which small, veteran-owned small, service-disabled veteran-owned small, HUBZone small, small disadvantaged and woman-owned small business concerns are sharing in Federal contracts.

j. To provide information for policy and management control purposes.

k. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORING, RETRIEVING, ACCESSING, RETAINING, AND DISPOSING OF SYSTEM RECORDS:

STORAGE:

Information may be collected electronically and may be stored on electronic media, as appropriate. Electronic records are kept on server hard drives and electronic backup devices.

RETRIEVABILITY:

Records are retrievable by a variety of fields, the key for individual records being the unique Procurement Instrument Identifier (PIID).

SAFEGUARDS:

System records are safeguarded in accordance with the requirements of the Privacy Act, the Computer Security Act, and the FPDS-NG System Security Plan. Technical, administrative, and personnel security measures are implemented to ensure confidentiality and integrity of the system data that is stored, processed, and transmitted. Electronic records are protected by passwords and other appropriate security measures.

Data entry is limited to authorized users whose names and levels of access are maintained by federal agencies and the information is securely stored online. Unclassified but sensitive contract data in the system is restricted to those who have access within the federal agency. Agencies determine when their contract information may be made available for viewing by other agencies and the public.

RETENTION AND DISPOSAL:

Disposition of records is according to the National Archives and Records Administration (NARA) guidelines, as set forth in the GSA Records Maintenance and Disposition System handbooks OAD P 1820.2A and CIO P 1820.1, and authorized GSA records schedules.

SYSTEM MANAGER AND ADDRESS:

Federal Procurement Data Center Program Manager, Integrated Acquisition Environment (GSA/IAE/VSI), Office of The Chief Acquisition Officer, Suite 911, Crystal Park I, 2011 Crystal Drive, Arlington, VA 22202.

NOTIFICATION PROCEDURES:

An individual may obtain information on whether the system contains his or her record by registering with FPDS-NG as a public user and using one or more of the various search capabilities to search for the record, or by addressing the inquiry to the system manager. Requests for system information that is releasable under the Freedom of Information Act (FOIA) may be directed to the Federal Procurement Data Center Program Manager through the FOIA Requestor Service Center, 1800 F St., NW., Room 7126, Washington, DC 20405.

RECORD ACCESS PROCEDURES:

Any individual may register with FPDS-NG as a public user and use one or more of the various search capabilities to search for federal contracts after they have been awarded and entered into FPDS-NG. Individuals also may request access to their information from the system manager. The public may obtain releasable information by submitting a FOIA request to the Federal Procurement Data Center Program Manager through the FOIA Requestor Service Center.

CONTESTING RECORD PROCEDURES:

GSA establishes the rules for access to federal contracts. Individuals may contest the contents of a contract by contacting the contracting office in the department or agency that awarded the contract.

RECORD SOURCE CATEGORIES:

Information is obtained from federal agencies who report federal contracts after award according to the reporting requirements included in the Federal Acquisition Regulation Subpart 4.6—Contract Reporting. These records may contain the names of individuals, their DUNS number, and Taxpayer Identification Number (TIN).

[FR Doc. E8-8900 Filed 4-24-08; 8:45 am]

BILLING CODE 6820-34-P